DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: Characterization of the U.S. Atlantic Recreational Fishery for White Marlin.

Form Number(s): None.

OMB Approval Number: None.

Type of Request: Regular submission.

Burden Hours: 34.

Number of Respondents: 266.

Average Hours Per Response: 10 minutes.

Needs and Uses: This project is designed to investigate characteristics of the offshore recreational white marlin fishery, including identification of specific fishing techniques and potential variables that might be included in post-release survival experiments. Specific in-depth knowledge of fishing techniques is essential to evaluate recreational fishing impacts, to develop relevant research and management approaches to reduce mortality for this sector of the fishery, and to promote rebuilding of Atlantic white marlin stocks.

The information will be obtained through a survey and complemented and confirmed by on-board observers in the Ocean City, Maryland area, which is known as the “White Marlin Capital of the World.” The project will gain general acceptance for the survey through meetings, face-to-face dialogue and word of mouth. This work attempts to form a current and knowledgeable information source on which to base appropriate research and conservation measures relative to the U.S. recreational fishery for Atlantic white marlin.

Affected Public: Individuals or households; not-for-profit institutions.

Frequency: Once per individual.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 6, 2005.
Gwellnar Banks,
Management Analyst, Office of the Chief Information Officer.

[FR Doc. 05-11605 Filed 6-10-05; 8:45 am]

BILLING CODE 3510-22-P